DEPARTMENT OF STATE

[Public Notice: 12331]

U.S. Department of State Advisory Committee on Private International Law: Notice of Annual Meeting

The Department of State's Advisory Committee on Private International Law (ACPIL) will hold its annual meeting in hybrid format on Thursday, March 21, 2024, at The George Washington University (GWU) Law School, Faculty Conference Center, Washington, DC 20052. The program is scheduled to run from 9 a.m. to 4 p.m.

The meeting will include discussions on international dispute resolution, family law, and other international commercial matters. It will also address private international law developments over the last year and possible future work. If time allows, other topics of interest may be discussed.

Time and Place: The meeting will take place on Thursday, March 21, 2024, GWU Law School, Faculty Conference Center, 716 20th Street NW, Washington, DC 20052 from 9:00 a.m. to 4:00 p.m. Those who cannot participate by either in-person or virtual format but wish to comment are welcome to do so by email to Joseph Khawam at PIL@state.gov.

Public Participation: This meeting is open to the public. There is currently no COVID masking mandate, but anyone is free to wear a mask.

Priority for in-person seating will be given to members of the Advisory Committee, and remaining seating will be reserved based upon when persons contact pil@state.gov. Those persons planning to attend should provide their name, affiliation, and contact information to pil@state.gov no later than March 7, 2024, stating in their response whether they will attend in-person or virtually. Room information for in-person attendance and a Zoom link for virtual attendance will be provided following registration. When registering, please indicate whether attending in-person or via Zoom. If attending virtually, please indicate if you require captioning.

Persons needing reasonable accommodation should notify pil@state.gov not later than March 14, 2024. Requests made after that date will be considered but might not be able to be fulfilled. A more detailed agenda will be available to registered participants in advance of the meeting. Persons who wish to have their views considered are encouraged, but not required, to submit written comments in advance. Comments should be sent electronically to pil@state.gov.

Joseph N. Khawam,
Attorney-Adviser, Executive Director of ACPIL, Office of Private International Law, Office of the Legal Adviser, Department of State.

[FR Doc. 2024-03238 Filed 2-15-24; 8:45 am]

BILLING CODE 4710-08-P